ENVIRONMENTAL PROTECTION AGENCY

[EPA-HQ-OLEM-2016-0695; FRL 9956-18-OLEM]

Hazardous Waste Electronic Manifest System (“e-Manifest”) Advisory Board; Notice of Public Meeting

AGENCY: Environmental Protection Agency (EPA).

ACTION: Notice.

SUMMARY: There will be an inaugural three (3) day meeting of the Hazardous Waste Electronic Manifest System (“e-Manifest”) Advisory Board to consider and advise the Agency about the initial launch of the e-Manifest System (Meeting Theme: “System Launch: Day 1 e-Manifest”).

DATES: The meeting will be held on January 10-12, 2017, from approximately 9:00 a.m. to 5:00 p.m. EST.

Comments. The Agency encourages written comments be submitted on or before December 27, 2016, and requests for oral comments be submitted on or before January 3, 2017. However, written comments and requests to make oral comments may be submitted until the date of the meeting, but anyone submitting written comments after January 3, 2017, should contact the Designated Federal Official (DFO) listed under FOR FURTHER INFORMATION CONTACT. For additional instructions, see Unit I.C. of the SUPPLEMENTARY INFORMATION.

Webcast. This meeting may be webcast. Please refer to the e-Manifest Web site at https://www.epa.gov/hwgenerators/hazardous-waste-electronic-manifest-system-e-manifest for information on how to access the webcast. Please note that the webcast is a supplementary public process provided only for convenience. If difficulties arise resulting in webcasting outages, the meeting will continue as planned.

Special accommodations. For information on access or services for individuals with disabilities, and to request accommodation of a disability, please contact the DFO listed under FOR FURTHER INFORMATION CONTACT at least 10 days prior to the meeting to give EPA as much time as possible to process your request.

ADDRESSES: Meeting: The meeting will be held at the Crystal City Marriot at Reagan National Airport located on 1999 Jefferson Davis Hwy, Arlington, VA 22202.

Comments. Submit your comments, identified by Docket ID No. EPA-HQ-OLEM-2016-0695 at http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

FOR FURTHER INFORMATION CONTACT: Fred Jenkins, Designated Federal Officer (DFO), U.S. Environmental Protection Agency, Office of Resource Conservation and Recovery, (MC: 5303P), 1200 Pennsylvania Avenue NW., Washington, DC 20460, Phone: 703-308-7049; or by email: jenkins.fred@epa.gov.

SUPPLEMENTARY INFORMATION:

I. General Information

A. Does this action apply to me?

This action is directed to the public in general. This action may be of particular interest to persons who are or may be subject to the Hazardous Waste Electronic Manifest Establishment (e-Manifest) Act. Since other entities may also be interested, the Agency has not attempted to describe all the specific entities that may be affected by this action.

B. How may I participate in this meeting?

You may participate in this meeting by following the instructions in this document. To ensure proper receipt of your public comments by EPA, it is imperative that you identify docket ID number EPA-HQ-OLEM-2016-0695.

1. Written comments. The Agency encourages written comments be submitted electronically via regulations.gov, using the instructions in the ADDRESSES Comments section on or before December 27, 2016, to provide the e-Manifest Advisory Board the time necessary to consider and review the written comments. Written comments are accepted until the date of the meeting, but anyone submitting written comments after December 27, 2016, should contact the DFO listed under FOR FURTHER INFORMATION CONTACT. Anyone submitting written comments at the meeting should bring fifteen (15) copies for distribution to the e-Manifest Advisory Board.

2. Oral comments. The Agency encourages each individual or group wishing to make brief oral comments to the e-Manifest Advisory Board to submit their request to the DFO listed under FOR FURTHER INFORMATION CONTACT on or before January 3, 2017, in order to be included on the meeting agenda. Requests to present oral comments will be accepted until the date of the meeting. To the extent that time permits, the Chair of the e-Manifest Advisory Board may permit the presentation of oral comments at the meeting by interested persons who have not previously requested time. The request should identify the name of the individual making the presentation, the organization (if any) that the individual represents, and any requirements for audiovisual equipment. Oral comments before the e-Manifest Advisory Board are limited to approximately 5 minutes unless prior arrangements have been made. In addition, each speaker should bring fifteen (15) copies of his or her comments and presentation for distribution to the e-Manifest Advisory Board at the meeting.

3. Seating at the meeting. Seating at the meeting will be open and on a first-come basis.

C. Purpose of the e-Manifest Advisory Board

The Hazardous Waste Electronic Manifest System Advisory Board is established in accordance with the provisions of the Hazardous Waste Electronic Manifest Establishment Act, 42 U.S.C. 6939g, and the Federal Advisory Committee Act (FACA), 5 U.S.C. App. 2. The e-Manifest Advisory Board is in the public interest and supports the Environmental Protection Agency in performing its duties and responsibilities.

The e-Manifest Advisory Board will provide recommendations on matters related to the operational activities, functions, policies, and regulations of EPA under the e-Manifest Act, including:

• The effectiveness of the Manifest IT system and associated user fees and processes;

• Matters and policies related to the e-Manifest program;

• Regulations and guidance as required by the e-Manifest Act;

• Actions to encourage the use of the electronic (paperless) system;

• Changes to the user fees as described in e-Manifest Act Section 2 (c)(3)(B)(i); and

• Issues in the e-Manifest area, including those identified in EPA' s E-Enterprise strategy that intersect with the e-Manifest system, such as:

• Business to business communications;

• Performance standards for mobile devices; and

• EPA's Cross Media Electronic Reporting Rule (CROMERR) requirements.

The sole duty of the Advisory Board is to provide advice and recommendations to the EPA Administrator. As required by the e-Manifest Act, the e-Manifest Advisory Board will be composed of nine (9) members. One (1) member will be the EPA Administrator (or a designee), who will serve as Chairperson of the Advisory Board. The rest of the committee will be composed of:

• At least two (2) members who have expertise in information technology;

• At least three (3) members who have experience in using or represent users of the manifest system to track the transportation of hazardous waste under the e-Manifest Act;

• At least three (3) members who will be state representatives responsible for processing e-manifests.

All members of the e-Manifest Advisory Board, with the exception of the EPA Administrator, will be appointed as Special Government Employees or representatives.

D. Public Meeting

The EPA will convene the e-Manifest Advisory Board to hold its first Federal Advisory Committee meeting. The meeting theme will be entitled “System Launch: Day 1 e-Manifest”. The purpose of the meeting is to address critical policy and system development issues that need resolution prior to launching the e-Manifest system. Specifically, the Advisory Board will provide recommendations to the EPA on setting and revising user fees for users of the e-Manifest system. The Advisory Board will also advise the EPA on system development matters, such as critical functionality needed on Day One of the implementation of e-Manifest, and mechanisms that may encourage early adoption of e-Manifest once the e-Manifest becomes available to the manifest user community.

E. e-Manifest Advisory Board Documents and Meeting Minutes

EPA's background paper, related supporting materials, charge/questions to the Advisory Board, the Advisory Board roster (i.e., members attending this meeting), and the meeting agenda will be available by approximately mid-December 2016. In addition, the Agency may provide additional background documents as the materials become available. You may obtain electronic copies of these documents, and certain other related documents that might be available at http://www.regulations.gov and the e-Manifest Advisory Board Web site at: https://www.epa.gov/hwgenerators/hazardous-waste-electronic-manifest-system-e-manifest.The e-Manifest Advisory Board will prepare meeting minutes summarizing its recommendations to the Agency approximately ninety (90) days after the meeting. The meeting minutes will be posted on the e-Manifest Advisory Board Web site or may be obtained from the docket at http://www.regulations.gov.

Dated: November 30, 2016.
Barnes Johnson,
Director, Office of Resource Conservation and Recovery, Office of Land and Emergency Management.

[FR Doc. 2016-29340 Filed 12-6-16; 8:45 am]

BILLING CODE 6560-50-P